DEPARTMENT OF JUSTICE

Notice of Lodging of Proposed Consent Decree Under the Clean Water Act

On August 27, 2019, the Department of Justice lodged a proposed Consent Decree with the United States District Court for the Southern of Texas in the lawsuit entitled United States and State of Texas v. City of Houston, Texas, Civil Action No. 4:18-cv-03368.

The United States and the State of Texas filed a joint Complaint against the City, pursuant to Section 309(b) and (d) of the Clean Water Act, 33 U.S.C. 1319(b) and (d) and provisions of the Texas Water Code. The Complaint seeks, inter alia, injunctive relief to address and eliminate illegal discharges, namely sanitary sewer overflows, occurring from the City's wastewater collection and transmission system and (b) discharges of pollutants from wastewater treatment plants that exceed effluent limits established in state-issued permits. Under the proposed Consent Decree, the City will implement comprehensive injunctive relief measures to eliminate both SSOs and effluent violations, as well as measures to prevent such violations. The City will pay a civil penalty of $4.4 million, which amount will be shared equally by the United States and the State.

The publication of this notice opens a period for public comment on the Consent Decree. Comments should be addressed to the Assistant Attorney General, Environment and Natural Resources Division, and should refer to United States and State of Texas v. City of Houston, Texas, D.J. Ref. No. 90-5-1-1-08687/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $39.25 (25 cents per page reproduction cost) payable to the United States Treasury. For a paper copy without the exhibits and signature pages, the cost is $20.50.

Jeffrey Sands,
Assistant Section Chief, Environmental Enforcement Section, Environment and Natural Resources Division.

[FR Doc. 2019-18889 Filed 8-30-19; 8:45 am]

BILLING CODE 4410-15-P